DEPARTMENT OF THE INTERIOR

Bureau of Land Management

[LLNM932000.L14400000.ET0000.17X; NMNM-85612]

Notice of Application for Extension of Public Land Order No. 7296, and Opportunity for Public Meeting, Sacramento Peak Observatory; New Mexico

AGENCY: Bureau of Land Management, Interior.

ACTION: Notice.

SUMMARY: The United States Department of Agriculture, U.S. Forest Service (USFS) has filed an application with the Bureau of Land Management (BLM) requesting that the Secretary of the Interior extend the duration of the withdrawal created by Public Land Order (PLO) No. 7296 for an additional 20-year term subject to valid existing rights. PLO No. 7296 withdrew approximately 2,489.40 acres of National Forest System land from mining, but not from mineral leasing, to protect the scientific values of the Sacramento Peak Observatory located in the Lincoln National Forest. PLO No. 7296 will expire on November 28, 2017, unless extended. This notice gives the public an opportunity to comment on the application and to request a public meeting. This notice also amends the number of acres subject to PLO No. 7296. The number of acres that are subject to the withdrawal has been increased due to previously unsurveyed sections being surveyed since the withdrawal was originally created.

DATES: Comments and public meeting requests must be received by November 28, 2017.

ADDRESSES: Comments and public meeting requests should be sent to State Director, BLM, New Mexico State Office, P.O. Box 27115, Santa Fe, New Mexico 87502.

FOR FURTHER INFORMATION CONTACT: Jeanette Martinez, BLM New Mexico State Office, 505-954-2040, or via email at jeanette@blm.gov. Persons who use telecommunications device for the deaf (TDD) may call the Federal Relay Services at 1-800-877-8339 to reach the BLM contact person. The Service is available 24 hours a day, 7 days a week, to leave a message or question for the above individual. You will receive a reply during normal business hours.

SUPPLEMENTARY INFORMATION: The USFS has filed an application requesting that the Secretary of the Interior extend the withdrawal created by PLO 7396 (62 FR 63380 (1997)) for an additional 20-year term. PLO 7296 withdrew approximately 2,432.40 acres of National Forest System land from mining to protect the scientific values associated with the continued operation of the Sacramento Peak Observatory. Subsequent surveys of unsurveyed sections 28 and 33 revealed the area subject to the withdrawal contains 2,489.40 acres and is now described as follows:

New Mexico Principal Meridian

Lincoln National Forest

T. 17 S., R. 11. E., sec. 26, SW¼; sec.27, W½NE¼, SE¼NE¼, NW¼, and S½; sec. 34; PB 46 and PB 51, as depicted on Protraction Diagram approved June 18, 2003.

The area described contains 2,489.40 acres in Otero County. This legal description is identical in size, shape, and location as the description in PLO No. 7296, as published in the Federal Register (62 FR 63380 (1997)). Portions of the withdrawal originally described as sec. 28, E½NE¼ and S½, unsurveyed, and sec. 33, unsurveyed, are now identified as PB 46 and PB 51, respectively.

The purpose of the proposed extension is to ensure the continued protection of the scientific value of the Sacramento Peak Observatory. This includes the protection of the area from pollution, dust, vibration, and light that would interfere with the operation of the highly sensitive components of the Observatory.

No suitable alternative sites exist as the infrastructure investments of the SPO are in place at the optimal position for the type of activity ongoing at this site. The use of a right-of-way, interagency agreement, or cooperative agreement would not provide adequate protection.

The USFS would not need to acquire additional water rights to fulfill the purpose of the requested extension.

Records pertaining to the extension application can be examined by contacting Jeanette Martinez in the BLM New Mexico State Office at the address or phone number shown above.

For a period until November 28, 2017, all persons who wish to submit comments, suggestions, or objections in connection with the withdrawal extension application may present their views in writing to the BLM New Mexico State Director at the address indicated above. Comments, including names and street addresses of respondents, will be available for public review at the address listed above during regular business hours. Be advised that your entire comment, including your personal identifying information, may be made publicly available. While you can ask us to withhold your personal identifying information from public review, we cannot guarantee that we will be able to do so. Notice is hereby given that an opportunity for a public meeting is offered in connection with the withdrawal extension application. All interested parties who desire a public meeting for the purpose of being heard on the withdrawal extension application must submit a written request to the BLM New Mexico State Director at the address indicated above by November 28, 2017. Upon determination by the authorized officer that a public meeting will be held, a notice of the time and place will be published in the Federal Register and a local newspaper at least 30 days before the scheduled date of the meeting.

The withdrawal extension application will be processed in accordance with the regulations set forth in 43 CFR 2310.4.

Debby Lucero,
Acting Deputy State Director, Lands and Resources.

[FR Doc. 2017-18409 Filed 8-29-17; 8:45 am]

BILLING CODE 3411-15-P